SMALL BUSINESS ADMINISTRATION

[Disaster Declaration # 10274]

North Dakota Disaster # ND-00004

AGENCY: U.S. Small Business Administration.

ACTION: Notice.

SUMMARY: This is a Notice of the Presidential declaration of a major disaster for Public Assistance Only for the State of North Dakota (FEMA-1616-DR), dated November 21, 2005.

Incident: Severe Winter Storm and Record and Near-Record Snow.

Incident Period: October 4, 2005 through October 6, 2005.

DATES: Effective Date: November 21, 2005.

Physical Loan Application Deadline Date: January 23, 2006.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on November 21, 2005, applications for Private Non-Profit organizations that provide essential services of a governmental nature may file disaster loan applications at the address listed above or other locally announced locations.

The following areas have been determined to be adversely affected by the disaster:

Primary Counties:

Benson, Billings, Bottineau, Bowman, Burke, Dunn, Golden Valley, McHenry, McKenzie, McLean, Mercer, Oliver, Pierce, Renville, Rolette, Sheridan, Stark, Towner, Ward.

And the Fort Berthold Indian Reservation.

The Interest Rates are:

| Percent
Other (Including Non-Profit Organizations) With Credit Available Elsewhere | 4.750
Businesses and Non-Profit Organizations Without Credit Available Elsewhere | 4.000

The number assigned to this disaster for physical damage is 10274.

(Catalog of Federal Domestic Assistance Number 59008)

Herbert L. Mitchell,
Associate Administrator for Disaster Assistance.

[FR Doc. E5-7205 Filed 12-9-05; 8:45 am]

BILLING CODE 8025-01-P